DEPARTMENT OF LABOR

Employee Benefits Security Administration

Prohibited Transaction Exemption (PTE) 2007-05; Exemption Application No. D-11370; Amendment to PTE 2000-58, 65 FR 67765 (November 13, 2000) and PTE 2002-41, 67 FR 54487 (August 22, 2002) Involving Bear, Stearns & Co. Inc., Prudential Securities Incorporated et al. To Add Dominion Bond Rating Service Limited and Dominion Bond Rating Service, Inc. to the Definition of “Rating Agency”

AGENCY: Employee Benefits Security Administration, U.S. Department of Labor (the Department).

ACTION: Notice of technical correction.

On March 20, 2007, the Department published PTE 2007-05 in the Federal Register at 72 FR 13130. PTE 2007-05 expands the definition of “Rating Agency” in section III.X of the Underwriter Exemptions to include Dominion Bond Rating Service Limited and Dominion Bond Rating Service, Inc. The Underwriter Exemptions are individual exemptions that provide relief for the origination and operation of certain asset pool investment trusts and the acquisition, holding and disposition by employee benefit plans of certain asset-backed, pass-through certificates representing undivided interests in those investment trusts, and also provided the same individual exemptive relief to: Deutsche Bank A.G., New York Branch and Deutsche Morgan Grenfell/C.J. Lawrence Inc., Final Authorization Number (FAN) 97-03E (December 9, 1996); Credit Lyonnais Securities (USA) Inc., FAN 97-21E (September 10, 1997); ABN AMRO Inc., FAN 98-08E (April 27, 1998); Ironwood Capital Partners Ltd., FAN 99-31E (December 20, 1999) (supersedes FAN 97-02E (November 25, 1996)); William J. Mayer Securities LLC, FAN 01-25E (October 15, 2001); Raymond James & Associates Inc. & Raymond James Financial Inc., FAN 03-07E ( June 14, 2003); WAMU Capital Corporation, FAN 03-14E (August 24, 2003); and Terwin Capital LLC, FAN 04-16E (August 18, 2004); which received the approval of the Department to engage in transactions substantially similar to the transactions described in the Underwriter Exemptions pursuant to PTE 96-62, 61 FR 39988 (July 31, 1996).

In order to correct an inadvertent omission, the Department is adopting a technical correction to the final amendment. As corrected, at page 13130 of the notice granting the final amendment, the following organization and Final Authorization Number (FAN) is included in the list of organizations the Department is also granting individual exemptive relief for, after the phrase “(August 24, 2003);” “Barclays Bank PLC & Barclays Capital Inc., FAN 04-03E (February 4, 2004);”.

Subsequent to publication of the final amendment, the Department was informed that, effective January 22, 2007, Dominion Bond Rating Service Limited changed its name to “DBRS Limited,” and Dominion Bond Rating Service, Inc. changed its name to “DBRS, Inc.” These are name changes only. There has been no change in the corporate structure or business activities of DBRS Limited and DBRS, Inc.

FOR FURTHER INFORMATION CONTACT: Ms. Wendy McColough of the Department at (202) 693-8553. (This is not a toll-free number.)

Signed at Washington, DC, this 29th day of March, 2007.
Ivan L. Strasfeld,
Director of Exemption Determinations, Employee Benefits Security Administration, U.S. Department of Labor.

[FR Doc. E7-6216 Filed 4-3-07; 8:45 am]

BILLING CODE 4510-29-P